INTERNATIONAL TRADE COMMISSION

[Investigation No. 337-TA-1010]

Certain Semiconductor Devices, Semiconductor Device Packages, and Products Containing Same; Termination of Investigation on the Basis of Settlement

AGENCY: U.S. International Trade Commission.

ACTION: Notice.

SUMMARY: Notice is hereby given that the U.S. International Trade Commission has determined in the above-captioned investigation to grant a motion to terminate the investigation on the basis of settlement, resulting in termination of the investigation in its entirety.

FOR FURTHER INFORMATION CONTACT: Sidney A. Rosenzweig, Esq., Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on June 24, 2016, based on a complaint filed on behalf of Tessera Technologies, Inc.; Tessera, Inc.; and Invensas Corporation, all of San Jose, California (collectively, “Tessera”). 81 FR 41344 (Jun. 24, 2016). The complaint alleges violations of section 337 of the Tariff Act of 1930, as amended, 19 U.S.C. 1337, by reason of infringement of certain claims of U.S. Patent No. 6,856,007 (“the '007 patent”); U.S. Patent No. 6,849,946 (“the '946 patent”); and U.S. Patent No. 6,133,136 (“the '136 patent”). The notice of investigation names 24 respondents. Those respondents are Broadcom Limited of Singapore, and Broadcom Corporation of Irvine, California (collectively, “Broadcom”), as well 22 other manufacturers and importers of products containing Broadcom's semiconductor devices: Avago Technologies Limited of Singapore, and Avago Technologies U.S. Inc. of San Jose, California (collectively, “Avago”); Arista Networks, Inc. of Santa Clara, California; ARRIS International plc, ARRIS Group, Inc., ARRIS Solutions, Inc., ARRIS Enterprises, and Pace Ltd., all of Suwanee, Georgia, as well as Pace Americas LLC and Pace USA LLC, both of Boca Raton, Florida, and ARRIS Technology, Inc. of Horsham, Pennsylvania (collectively “ARRIS”); ASUSTek Computer, Inc. of Taipei, Taiwan, and ASUS Computer International of Fremont, California (collectively, “ASUS”); Comcast Cable Communications, LLC, Comcast Cable Communications Management, LLC, and Comcast Business Communications, LLC, each of Philadelphia, Pennsylvania (collectively, “Comcast”); HTC Corporation of Taoyuan, Taiwan, and HTC America Inc. of Bellevue, Washington (collectively, “HTC”); NETGEAR, Inc. of San Jose, California; Technicolor S.A. of Issy-Les-Moulineaux, France, as well as Technicolor USA, Inc. and Technicolor Connected Home USA LLC, both of Indianapolis, Indiana (collectively, “Technicolor”). The Office of Unfair Import Investigations is not participating in the investigation.

Earlier in Commission proceedings, Avago was terminated from the investigation. Order No. 70 (Feb. 27, 2017), not reviewed, Notice (Mar. 27, 2017). In addition, certain accused products were adjudicated not to infringe the '007 patent. Order No. 77 (Mar. 15, 2017), reviewed and affirmed with modifications, Notice (Apr. 14, 2017). Certain asserted claims have been withdrawn from the investigation. Order No. 82 (Mar. 22, 2017), not reviewed, Notice (Apr. 21, 2017).

On June 30, 2017, the ALJ issued the final initial determination (“final ID”). The final ID finds a violation of section 337 as to claims 16, 17, 20, and 22 of the '946 patent. Final ID at 262. The final ID finds that for claims 1, 2, 11, 12, 16, 24-26, and 34 of the '136 patent, the claims are infringed, and not invalid, but that the existence of a domestic industry was not shown. Id. at 262-63. For the '007 patent, the final ID finds that infringement was shown only as to claim 18, and that all of the asserted claims (claims 13, 16, and 18) are invalid, and no domestic industry was shown. Id. at 263.

Tessera and the respondents each filed a petition for review of the ID. In addition, the parties and a number of non-parties submitted statements on the public interest.

On September 29, 2017, the Commission determined to review the ID in part. Notice at 3 (Sept. 29, 2017) (“Notice of Review”). For the '007 patent, the Commission determined to review, and on review, to take no position on the economic prong of the domestic industry requirement, and infringement of claim 18. Id. The Commission determined not to review the remainder of the ID as to the '007 patent, including the ID's findings concerning anticipation by, or obviousness over, the prior art. Id. The investigation was, thus, terminated as to the '007 patent. Id. For the '946 patent and the '136 patent, the Commission determined not to review the ID's findings concerning the level of skill in the art. Id. The Commission determined to review all other issues for the '946 patent and the '136 patent. Id. The Commission requested further briefing from the parties on the issues under review and briefing from the parties and the public on remedy, the public interest, and bonding. Id. at 3, 6-8.

In response to the Commission notice, Tessera and the respondents filed opening and reply submissions on the issues under review, and remedy, the public interest, and bonding. In addition, the Commission received submissions on remedy and the public interest from several non-parties.

On December 18, 2017, Tessera and the respondents filed a joint motion to terminate the investigation on the basis of settlement.

The Commission finds that the motion is proper in form and complies with Commission Rules. See 19 CFR 201.6(a), 210.21(b). The Commission further finds that termination of the investigation will not adversely affect the public interest. Accordingly, the Commission has determined to grant the motion. The Commission hereby terminates the investigation.

The authority for the Commission's determination is contained in section 337 of the Tariff Act of 1930, as amended, 19 U.S.C. 1337, and in Part 210 of the Commission's Rules of Practice and Procedure, 19 CFR part 210.

By order of the Commission.
Issued: December 19, 2017.
Lisa R. Barton,
Secretary to the Commission.

[FR Doc. 2017-27639 Filed 12-21-17; 8:45 am]

BILLING CODE 7020-02-P